ENVIRONMENTAL PROTECTION AGENCY

[EPA-R04-OAR-2009-0164-200917; FRL-8980-1]

Adequacy Status of the Tennessee Portion of the Bi-State Memphis Maintenance Plan 8-Hour Ozone Motor Vehicle Emission Budgets for Transportation Conformity Purposes

AGENCY: Environmental Protection Agency (EPA).

ACTION: Notice of adequacy.

SUMMARY: EPA is notifying the public that it has found that the motor vehicle emissions budgets (MVEBs) for Shelby County, Tennessee in the 1997 8-Hour Ozone Maintenance Plan State Implementation Plan (SIP) revision, submitted on February 26, 2009, by the Tennessee Department of Environment and Conservation (TDEC), are adequate for transportation conformity purposes. Shelby County is one of the counties in the bi-state Memphis Area for the 1997 8-hour ozone standard. Crittenden County, Arkansas is the other county in the bi-state Memphis Area. Through a separate action EPA has already found the Crittenden County budgets adequate for transportation conformity purposes. This action relates only to the Shelby County, Tennessee budgets. As a result of EPA's finding, Shelby County must use the MVEBs for future conformity determinations for the 1997 8-hour ozone standard.

DATES: These MVEBs are effective November 27, 2009.

FOR FURTHER INFORMATION CONTACT: Dianna Smith, U.S. Environmental Protection Agency, Region 4, Air Planning Branch, 61 Forsyth Street, SW., Atlanta, Georgia 30303. Ms. Smith can also be reached by telephone at (404) 562-9207, or via electronic mail at smith.dianna@epa.gov. The finding is available at EPA's conformity Web site: http://www.epa.gov/otaq/stateresources/transconf/currsips.htm.

SUPPLEMENTARY INFORMATION: This notice is simply an announcement of a finding that EPA has already made. EPA Region 4 sent a letter to TDEC on

September 18, 2009, stating that the MVEBs identified for Shelby County in Tennessee's maintenance plan SIP revision for their portion of the bi-state Memphis Area, submitted on February 26, 2009, are adequate and must be used for transportation conformity determinations in Shelby County, Tennessee. The bi-state Memphis, Tennessee 8-hour ozone nonattainment area is comprised of Shelby County in Tennessee and Crittenden County in Arkansas. Tennessee's redesignation request and maintenance plan submittal addresses only MVEBs for the Tennessee portion of this Area (i.e., Shelby County). The MVEBs for the Arkansas portion of this Area are addressed in a separate submittal provided by the State of Arkansas. In a previous action, EPA found the MVEBs associated with Crittenden County (as a part of the bi-state Memphis 1997 8-hour ozone area) adequate for transportation conformity purpose. More details on EPA's finding for the Crittenden County MVEBs can be obtained at the EPA Web site: http://www.epa.gov/otaq/stateresources/transconf/pastsips.htm.

EPA posted the availability of the Shelby County MVEBs on EPA's Web site on March 12, 2009, as part of the adequacy process, for the purpose of soliciting comments. The adequacy comment period ran from March 12, 2009, through April 13, 2009. During EPA's adequacy comment period, no adverse comments were received on the Shelby County MVEBs. Through this notice, EPA is informing the public that these MVEBs are adequate for transportation conformity. This finding has also been announced on EPA's conformity Web site: http://www.epa.gov/otaq/stateresources/transconf/pastsips.htm. The adequate MVEBs are provided in the following table:

Shelby County, Tennessee 8-Hour Ozone MVEBs
[Tons per day]
| 2006 | 2009 | 2017 | 2021
NOX | 55.878 | 55.620 | 55.173 | 54.445
VOC | 25.216 | 27.240 | 18.323 | 13.817

Transportation conformity is required by section 176(c) of the Clean Air Act. EPA's conformity rule, 40 CFR part 93, requires that transportation plans, programs and projects conform to state air quality implementation plans and establishes the criteria and procedures for determining whether or not they do so. Conformity to a SIP means that transportation activities will not produce new air quality violations, worsen existing violations, or delay timely attainment of the national ambient air quality standards.

The criteria by which EPA determines whether a SIP's MVEBs are adequate for transportation conformity purposes are outlined in 40 CFR 93.118(e)(4). We have also described the process for determining the adequacy of submitted SIP budgets in our July 1, 2004, final rulemaking entitled, “Transportation Conformity Rule Amendments for the New 8-hour Ozone and PM2.5 National Ambient Air Quality Standards and Miscellaneous Revisions for Existing Areas; Transportation Conformity Rule Amendments: Response to Court Decision and Additional Rule Changes” (69 FR 40004). Please note that an adequacy review is separate from EPA's completeness review, and it should not be used to prejudge EPA's ultimate approval of Tennessee's maintenance plan SIP revision submittal for Shelby County. Even if EPA finds a budget adequate, the maintenance plan SIP revision submittal could later be disapproved.

Within 24 months from the effective date of this notice, the transportation partners will need to demonstrate conformity to the new MVEBs, if the demonstration has not already been made, pursuant to 40 CFR 93.104(e). See, 73 FR 4419 (January 24, 2008).

Authority: 42 U.S.C. 7401 et seq.

Dated: October 29, 2009.
Beverly H. Banister,
Acting Regional Administrator, Region 4.

[FR Doc. E9-27170 Filed 11-10-09; 8:45 am]

BILLING CODE 6560-50-P